FEDERAL COMMUNICATIONS COMMISSION

[Report No. 2684]

Petitions for Reconsideration and Clarification of Action in Rulemaking Proceeding

December 1, 2004.

Petitions for Reconsideration and Clarification have been filed in the Commission's Rulemaking proceeding listed in this Public Notice and published pursuant to 47 CFR Section 1.429(e). The full text of this document is available for viewing and copying in Room CY-B402, 445 12th Street, SW., Washington, DC or may be purchased from the Commission's copy contractor, Best Copy and Printing, Inc. (BCPI) (1-800-378-3160). Oppositions to these petitions must be filed by January 21, 2005. See Section 1.4(b)(1) of the Commission's rules (47 CFR 1.4(b)(1)). Replies to an opposition must be filed within 10 days after the time for filing oppositions have expired.

Subject: In the Matter of Second Periodic Review of the Commission's Rules and Policies Affecting the Conversion to Digital Television (MB Docket No. 03-15).

Number of Petitions Filed: 11.

Marlene H. Dortch,
Secretary.

[FR Doc. 05-259 Filed 1-5-05; 8:45 am]

BILLING CODE 6712-01-M